DEPARTMENT OF COMMERCE

International Trade Administration

[A-588-883]

Lattice Boom Crawler Cranes From Japan: Postponement of Preliminary Determination in the Less-Than-Fair-Value Investigation

AGENCY: Enforcement and Compliance, International Trade Administration, Department of Commerce.

DATES: Applicable August 21, 2025.

FOR FURTHER INFORMATION CONTACT: Dmitry Vladimirov or Thomas Schauer, AD/CVD Operations, Office I, Enforcement and Compliance, International Trade Administration, U.S. Department of Commerce, 1401 Constitution Avenue NW, Washington, DC 20230; telephone: (202) 482-0665 or (202) 482-0410, respectively.

SUPPLEMENTARY INFORMATION:

Background

On April 30, 2025, the U.S. Department of Commerce (Commerce) initiated a less-than-fair-value (LTFV) investigation of imports of lattice boom crawler cranes from Japan.¹ Currently, the preliminary determination is due no later than September 17, 2025.

¹ See Lattice Boom Crawler Cranes from Japan: Initiation of Less-Than-Fair-Value Investigation, 90 FR 19270 (May 7, 2025).

Postponement of Preliminary Determination

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On August 14, 2025, the petitioner ² submitted a timely request that Commerce postpone the preliminary determination in this LTFV investigation.³ The petitioner stated that it requested postponement to “allow Petitioner adequate time to analyze and comment on responses and will allow Commerce adequate time to issue supplemental questionnaires and develop a comprehensive record in this investigation that Petitioner can then comment upon in advance of Commerce issuing a preliminary determination” ⁴ and to “provide Commerce with the necessary time to analyze Petitioner's recently submitted sales- and cost-based particular market situation (`PMS') allegations in advance of its preliminary determination.” ⁵

² The petitioner is The Manitowoc Company, Inc.

³ See Petitioner's Letter, “Petitioner's Request to Postpone Commerce's Preliminary Determination,” dated August 14, 2025.

⁴ Id.

⁵ Id.

For the reasons stated above and because there are no compelling reasons to deny the request, Commerce, in accordance with section 733(c)(1)(A) of the Act, is postponing the deadline for the preliminary determination in this LTFV investigation by 50 days, i.e., 190 days after the date on which this investigation was initiated. As a result, Commerce will issue its preliminary determination no later than November 6, 2025. In accordance with section 735(a)(1) of the Act and 19 CFR 351.210(b)(1), the deadline for the final determination of this investigation will continue to be 75 days after the date of the preliminary determination, unless postponed at a later date.

Notification to Interested Parties

This notice is issued and published pursuant to section 733(c)(2) of the Act and 19 CFR 351.205(f)(1).

Dated: August 18, 2025.
Abdelali Elouaradia,
Deputy Assistant Secretary for Enforcement and Compliance.

[FR Doc. 2025-16044 Filed 8-20-25; 8:45 am]

BILLING CODE 3510-DS-P